POSTAL SERVICE

39 CFR Part 551

Semipostal Stamp Program

AGENCY: Postal Service™.

ACTION: Proposed rule.

SUMMARY: This proposed rule would remove certain restrictions on the commencement date for the Postal Service's discretionary Semipostal Stamp Program, and clarify how many semipostal stamps issued under that program may be on sale at any one time.

DATES: Comments must be received on or before February 22, 2016.

FOR FURTHER INFORMATION CONTACT: Lori Mazzone, Manager, Stamp Products & Exhibitions, 202-268-6711, lori.l.mazzone@usps.gov.

SUPPLEMENTARY INFORMATION:

Pursuant to the Semipostal Authorization Act, Public Law 106-253, the Postal Service has been granted discretionary authority to issue and sell semipostal stamps to advance such causes as it considers to be “in the national public interest and appropriate.” See 39 U.S.C. 416(b). On June 12, 2001, the Postal Service published a final rule establishing the regulations in 39 CFR part 551 for the discretionary Semipostal Stamp Program (66 FR 31826). Minor revisions were made to these regulations to implement Public Law 107-67, 115 Stat. 514 (2001), and to reflect minor organizational changes in the Postal Service (67 FR 5215 (February 5, 2002)). On February 19, 2004, the Postal Service published a final rule clarifying the cost-offset policy for semipostal stamps (69 FR 7688), and on February 9, 2005, the Postal Service also published an additional minor clarifying revision to these cost-offset regulations (70 FR 6764).

The Postal Service now proposes to revise paragraphs (a) and (b) of 39 CFR 551.5. A brief description of each proposed change follows.

The proposed revision of § 551.5(a) would remove certain restrictions on the commencement date of the discretionary Semipostal Stamp Program. Under current regulations, the 10-year period for the discretionary semipostal stamp program commences on a date determined by the Office of Stamp Services, but that date must be after the sales period of the Breast Cancer Research Stamp (BCRS) is concluded. Most recently, Public Law 114-99 (December 11, 2015) extended that sales period to December 31, 2019.

The proposed revision of § 551.5(a) would specify that the 10-year period will commence on a date determined by the Office of Stamp Services, but this date need not be after the BCRS sale period concludes.

The proposed revision of § 551.5(b) would clarify that although only one semipostal stamp under the discretionary Semipostal Stamp Program under 39 U.S.C. 416 (a “discretionary program semipostal stamp”) will be offered for sale at any one time, other semipostal stamps required to be issued by Congress (such as the BCRS) may be on sale when a discretionary program semipostal stamp is on sale. Current regulations state that the Postal Service will offer only one semipostal stamp for sale at any given time during the 10-year period (not specifying whether it is a discretionary program semipostal stamp or a semipostal stamp required by Congress).

The proposed revision of § 551.5(b) would clarify that the one-at-a-time limitation on the sale of semipostal stamps applies only to discretionary program semipostal stamps.

We will publish an appropriate amendment to 39 CFR part 551 to reflect these changes if the proposal is adopted.

List of Subjects in 39 CFR Part 551

Administrative practice and procedure.

In accordance with 39 U.S.C. 416(e)(2), the Postal Service invites public comment on the following proposed amendments to the Code of Federal Regulations. For the reasons stated in the preamble, the Postal Service proposes to revise 39 CFR part 551 as follows:

PART 551—SEMIPOSTAL STAMP PROGRAM

1. The authority citation for 39 CFR part 551 continues to read as follows:

Authority: 39 U.S.C. 101, 201, 203, 401, 403, 404, 410, 414, 416.

2. In § 551.5, revise paragraphs (a) and (b) to read as follows:

§ 551.5 Frequency and other limitations.

(a) The Postal Service is authorized to issue semipostal stamps for a 10-year period beginning on the date on which semipostal stamps are first sold to the public under 39 U.S.C. 416. The Office of Stamp Services will determine the date of commencement of the 10-year period.

(b) The Postal Service will offer only one semipostal stamp pursuant to the discretionary semipostal stamp program under 39 U.S.C. 416 for sale at any given time during the 10-year period.

* * * * *

Stanley F. Mires,
Attorney, Federal Compliance.

[FR Doc. 2016-01070 Filed 1-21-16; 8:45 am]

BILLING CODE 7710-12-P